COMMITTEE FOR PURCHASE FROM PEOPLE WHO ARE BLIND OR SEVERELY DISABLED

Procurement List; Additions; Correction

AGENCY: Committee for Purchase From People Who Are Blind or Severely Disabled.

ACTION: Notice; correction.

SUMMARY: The Committee for Purchase From People Who Are Blind or Severely Disabled published a document in the Federal Register on October 5, 2018, concerning a notice of additions for NSNs: 8455-00-NIB-0139—Name Tape, Embroidered, USAF, Tigerstripe, 8455-00-NIB-0140, Service Tape, Embroidered, USAF, Tigerstripe and 8455-00-NIB-0141, Name tags, Plastic, Engraved, USAF, Blue to the Procurement List for the 100% of the U.S. Air Force. These products are currently on the Procurement List as a service however, the Air Force determined to award the next contract as a product. As the name tapes and tags are currently provided under the AbilityOne Program, they should not have appeared on Friday, October 5, 2018, 83 FR 50347.

FOR FURTHER INFORMATION CONTACT: Michael R. Jurkowski, Telephone: (703) 603-2117.

Dated: October 9, 2018.
Michael R. Jurkowski,
Business Management Specialist, Business Operations.

[FR Doc. 2018-22258 Filed 10-11-18; 8:45 am]

BILLING CODE 6353-01-P